DEPARTMENT OF THE INTERIOR

Bureau of Land Management

[LLNM01000 L16100000 DO0000]

Notice of Intent To Prepare a Resource Management Plan Amendment for the Glade Run Recreation Area, Farmington Field Office, New Mexico, and Associated Environmental Assessment

AGENCY: Bureau of Land Management, Interior.

ACTION: Notice of Intent.

SUMMARY: In compliance with the National Environmental Policy Act of 1969 (NEPA), as amended, and the Federal Land Policy and Management Act of 1976 (FLPMA), as amended, the Bureau of Land Management (BLM) Farmington Field Office (Field Office), Farmington, New Mexico, intends to prepare a Resource Management Plan (RMP) amendment to the 2003 Farmington RMP with an associated Environmental Assessment (EA) to address recreation and travel management in the Glade Run Recreation Area (the Glade). By this Notice, the Field Office is announcing the beginning of the scoping process to solicit public comments and identify issues.

DATES: This Notice initiates the public scoping process for the RMP amendment/EA. Comments on issues and planning criteria may be submitted 30 days from the date of publication of this Notice in the Federal Register (the scoping period). The date(s) and location(s) of any scoping meeting(s) will be announced at least 15 days in advance through the local news media, mailings to interested individuals, and on the BLM Field Office Web site at: http://www.blm.gov/nm/st/en.html. In order to be included in the Draft RMP amendment/EA, all comments must be received prior to the close of the scoping period or 30 days after the last public meeting, whichever is later.

The BLM will provide additional opportunities for public participation and comment upon publication of the Draft RMP amendment/EA.

ADDRESSES: You may submit comments on issues and planning criteria related to the Farmington Field Office Glade Run Recreation Area RMP amendment/EA by any of the following methods:

• Web site: http://www.blm.gov/nm/st/en.html.

• E-mail: FFO_Comments@blm.gov.

• Fax: 505-599-8999 Attention: Outdoor Recreation Planner.

• Mail: 1235 La Plata Highway, Farmington, New Mexico 87401, Attention: Outdoor Recreation Planner.

Public comments, maps and other information related to the Glade RMP amendment/EA may be examined at the Field Office.

FOR FURTHER INFORMATION CONTACT: For further information and/or to have your name added to our mailing list, contact Janelle Alleman, Outdoor Recreation Planner, telephone: 505-599-8944; address: 1235 La Plata Highway, Farmington, New Mexico 87401; or by e-mail at FFO_Comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM Farmington Field Office, Farmington, New Mexico, intends to prepare an RMP amendment/EA to address recreation and travel management decisions in the Glade. The Glade encompasses 21,544 acres of which 17,935 acres are Federal lands. The remaining acres consist of State of New Mexico and private lands. The planning area is located in San Juan County, New Mexico. The purpose of the public scoping process is to determine relevant issues that will influence the scope of the RMP amendment/EA, including alternatives, and will help to guide the planning process.

New forms of motorized vehicles and technology, population growth, increasing user conflicts, and related developments have out-paced guidance and decisions in the current recreation and travel management plan for the Glade, which was approved in 1996. To address these developments, the RMP amendment/EA will consider proposals to amend the RMP to make changes in off-highway vehicle (OHV) area designations (43 CFR 8342.2). OHV area designations are land use allocations that classify areas of public lands as open, limited, or closed to motorized travel. The RMP amendment/EA will also consider a proposal to designate the Glade as a Special Recreation Management Area (SRMA). SRMA designations recognize specified public lands where recreation opportunities and recreation settings are the predominant land use planning focus and are managed through the land use planning process.

In addition, this planning effort will develop management alternatives that include specific activity planning targeted at identifying a travel and transportation network of routes for specified uses within the planning area.

The BLM anticipates the following planning issues (43 CFR 1610.2(c)(3)): (1) How to best address conflicts between recreational users? (2) What is an appropriate balance in providing for the different kinds of recreation uses and opportunities? (3) Is there an opportunity for a Recreation & Public Purpose lease within the planning area? and (4) How can BLM best promote and address public safety?

The BLM will use an interdisciplinary approach to develop the plan in order to consider the variety of resource issues and concerns identified. Specialists with expertise in the following disciplines will be involved in the planning process: Rangeland management, minerals and geology, forestry, outdoor recreation, archaeology, paleontology, wildlife and fisheries, lands and realty, hydrology, soils, sociology, and economics.

Proposed planning criteria include the following:

1. The RMP amendment/EA will comply with FLPMA, NEPA, and all other applicable laws, regulations, and policies;

2. For program-specific guidance for decisions at the land use planning level, the process will follow the BLM's policies in the Land Use Planning Handbook, H-1601-1;

3. Public participation and collaboration will be an integral part of the planning process;

4. The BLM will strive to make decisions in the plan compatible with the existing plans and policies of adjacent local, State, and Federal agencies and local American Indian tribes, as long as the decisions are consistent with the purposes, policies, and programs of Federal laws and regulations applicable to public lands;

5. The RMP amendment/EA will recognize valid existing rights;

6. The RMP amendment/EA will incorporate, where applicable, management decisions brought forward from existing planning documents;

7. The BLM staff will work with cooperating agencies and all other interested groups, agencies, and individuals;

8. The BLM and cooperating agencies will jointly develop alternatives for resolution of resource management issues and management concerns;

9. GIS and metadata information will meet Federal Geographic Data Committee standards, as required by Executive Order 12906 and all other applicable BLM data standards will be followed;

10. The planning process will provide for ongoing consultation with American Indian tribes to identify strategies for protecting recognized traditional uses;

11. Planning and management direction will focus on the relative values of resources and not the combination of uses that will give the greatest economic return or economic output;

12. The BLM will consider the quantity and quality of non-commodity resource values;

13. Where practicable and timely for the planning effort, the best available scientific information, research, and new technologies will be used;

14. Actions must comply with all applicable regulations and must be reasonable, achievable, and allow for flexibility while supporting adaptive management principles; and

15. The Economic Profile System will be used as one source of demographic and economic data for the planning process, which will provide baseline data and contribute to estimates of existing and projected social and economic conditions.

The BLM will utilize and coordinate the NEPA commenting process to satisfy the public involvement process for Section 106 of the National Historic Preservation Act (16 U.S.C. 470f) as provided for in 36 CFR 800.2(d)(3). Native American tribal consultations will be conducted in accordance with policy, and tribal concerns will be given due consideration, including concerns related to impacts on Indian trust assets. Federal, State, tribal and local agencies, along with stakeholders, are invited to participate in the scoping process and, if eligible, may participate as a cooperating agency.

You may submit comments on issues and planning criteria in writing to the BLM at any public scoping meeting, or you may submit them to the BLM using one of the methods set forth in the ADDRESSES section of this Notice, and within the timeframes set forth in the DATES section of this Notice. Please note that public comments and information submitted including names, street addresses, and email addresses of persons who submit comments will be available for public review and disclosure at the above address during regular business hours (8 a.m. to 4 p.m.), Monday through Friday, except holidays. While you can ask us in your comment to withhold your personal identifying information from public review, we cannot guarantee that we will be able to do so.

Authority: 40 CFR 1501.7, 43 CFR 1610.2.

Jesse J. Juen,
Acting State Director.

[FR Doc. 2011-17776 Filed 7-14-11; 8:45 am]

BILLING CODE 4310-VB-P